NUCLEAR REGULATORY COMMISSION

[Docket No. 50-341; NRC-2011-0215]

Detroit Edison Company, Fermi 2; Environmental Assessment and Finding of No Significant Impact

The U.S. Nuclear Regulatory Commission (NRC) is considering issuance of an amendment to Facility Operating License No. NPF-43, issued to Detroit Edison Company (the licensee), for operation of the Fermi 2, located in Monroe County, Michigan, in accordance with Title 10 of the Code of Federal Regulations (10 CFR) 50.90. Therefore, as required by 10 CFR 51.21, the NRC performed an environmental assessment. Based on the results of the environmental assessment, the NRC is issuing a finding of no significant impact.

Environmental Assessment

Identification of the Proposed Action

The proposed action would revise the Radiological Emergency Response Preparedness Plan (RERP) to increase the staff augmentation times for the Operational and Technical Support Centers-related functions from 30 to 60 minutes, and for Emergency Operations Facility (EOF)-related functions from 60 to 90 minutes.

The proposed action is in accordance with the licensee's application dated September 24, 2010 (Agencywide Documents Access and Management System (ADAMS) Accession No. ML102700478), as supplemented by letter dated March 4, 2011 (ADAMS Accession No. ML110660050).

The Need for the Proposed Action

The proposed change increases the emergency plan (EP) staff augmentation times from 30 and 60 minutes to 60 and 90 minutes. Specifically, the proposed change requests a revision to the Fermi 2 Emergency Plan Table B-1, “Fermi 2 Emergency Response Organization [ERO],” to increase the staff augmentation times for Technical Support Center-related functions from 30 to 60 minutes, and for EOF-related functions from 60 to 90 minutes.

The proposed change is needed to address concerns for the safety of ERO personnel when responding to the site due to the increase in population and redistribution within the 10-mile Emergency Planning Zone (EPZ). When considering that two lane roads comprise the majority of highways within the EPZ, this has created increased traffic congestion and increased traffic control delays. Consequently, personnel that respond to the site have encountered more delays than when the plant was first licensed. Additional delays may occur in the future based on continued population growth.

Improvements have been made to equipment, procedures, and training since initial approval of the Fermi 2 EP that have resulted in a significant increase in the on-shift capabilities and knowledge such there would be no degradation or loss of EP function as a result of the proposed change. A functional analysis was also performed on the effect of the proposed change on the timeliness of performing major tasks for the major functional areas of RERP plan. The analysis concluded that extension of staff augmentation times would not significantly affect the ability to perform the required tasks.

Environmental Impacts of the Proposed Action

The NRC has completed its environmental assessment of the proposed exemption. The staff has concluded that the proposed action to increase the staff augmentation times for the Operational and Technical Support Centers-related functions from 30 to 60 minutes, and for EOF-related functions from 60 to 90 minutes would not significantly affect plant safety and would not have a significant adverse effect on the probability of an accident occurring.

The proposed action would not result in an increased radiological hazard beyond those previously analyzed in the updated Safety Analysis Report. There will be no change to radioactive effluents that effect radiation exposures to plant workers and members of the public. No changes will be made to plant buildings or the site property. Therefore, no changes or different types of radiological impacts are expected as a result of the proposed exemption.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Stevens Act are expected. There are no impacts to the air or ambient air quality. There are no impacts to historical and cultural resources. There would be no noticeable effect on socioeconomic conditions in the region. Therefore, no changes or different types of non-radiological environmental impacts are expected as a result of the proposed action. Accordingly, the NRC concludes that there are no significant environmental impacts associated with the proposed action.

The details of the staff's safety evaluation will be provided as part of the letter to the licensee approving issuance of the license amendment.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the Final Environmental Statement for the Enrico Fermi Atomic Power Plant, Unit 2, NUREG-0769, dated August 1981, as supplemented with Addendum No. 1 in March 1982.

Agencies and Persons Consulted

In accordance with its stated policy, on August 19, 2011, the NRC staff consulted with the State official, Mr. Ken Yale, of the Michigan Department of Natural Resources and Environment regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated September 24, 2010, as supplemented by letter dated March 4, 2011. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 6th day of September, 2011.
For the Nuclear Regulatory Commission.
Mahesh Chawla,
Project Manager, Plant Licensing Branch 3-1, Division of Operating Reactor Licensing, Office of Nuclear Reactor Regulation.

[FR Doc. 2011-23488 Filed 9-13-11; 8:45 am]

BILLING CODE 7590-01-P